FEDERAL ELECTION COMMISSION

Sunshine Act Notices

Date & Time: Thursday, December 17, 2009, at 10 a.m.

Place: 999 E Street, NW., Washington, DC (Ninth Floor).

Status: This meeting will be open to the public.

Items To Be Discussed: Correction and Approval of Minutes:

Draft Advisory Opinion 2009-27: America Future Fund Political Action by its counsel, Jason Torchinsky.

Draft Advisory Opinion 2009-28: Democracy Engine, Inc., PAC, by its Treasurer, Jonathan Zucker, Esq.

Adoption of Policy to Prepare and Publish a Guidebook for Complainants and Respondents in Enforcement Matters.

Agency Procedures.

Election of Officers.

Future Meeting Dates.

Management and Administrative Matters.

Individuals who plan to attend and require special assistance, such as sign language interpretation or other reasonable accommodations, should contact Mary Dove, Commission Secretary, at (202) 694-1040, at least 72 hours prior to the hearing date.

Person To Contact for Information: Judith Ingram, Press Officer Telephone: (202) 694-1220.

Signed:
Mary W. Dove,
Secretary of the Commission.

[FR Doc. E9-29836 Filed 12-15-09; 8:45 am]

BILLING CODE 6715-01-M